DEPARTMENT OF TRANSPORTATION

Transportation Security Administration

[Docket No. TSA-2002-12394]

Security Program for Certain Private Charter Operations

AGENCY: Transportation Security Administration (TSA), DOT.

ACTION: Notice.

SUMMARY: This notice establishes dates for submission of comments on and implementation of a security program for operators of aircraft engaged in private charter passenger operations with a maximum certificated takeoff weight of 95,000 pounds or more.

DATES: Comments may be submitted to TSA from August 30 through September 30, 2002.

Security program compliance date: December 1, 2002.

ADDRESSES: Address all comments concerning this action to Nouri Larbi, Aviation Security Regulations and Policy, Room 323, Transportation Security Administration, 800 Independence Avenue, SW., Washington, DC 20591. Please be sure to submit two copies of your comments.

FOR FURTHER INFORMATION CONTACT: Nouri Larbi, telephone (202) 267-8543, facsimile (202) 267-5359, e-mail nouri.larbi@faa.gov.

SUPPLEMENTARY INFORMATION: On June 19, 2002, TSA published a no-notice final rule in the Federal Register (67 FR 41635) that, in part, requires new security measures for private charter passenger operators using aircraft with a maximum certificated takeoff weight of 95,000 pounds or more. Under the rule, these operators must adopt and carry out a security program approved by TSA to address passenger and accessible property screening. As published, the effective date of the rule is August 19, 2002, and this document does not change that effective date. For the reasons explained below, it is now necessary to establish a comment period for the proposed program and a date on which affected operators must implement the approved security program.

Security programs constitute sensitive security information (SSI), which can be disclosed only to persons with a need to know, in accordance with 49 CFR part 1520. Therefore, the private charter security program will be distributed for comment only to the affected operators.

Since publication of the rule in June, TSA has received comments and inquiries concerning passenger and accessible property screening on private charter operations. The commenters state that there are a variety of unique characteristics among passenger charter operations that make typical passenger and property screening in an airport terminal difficult or impracticable. For instance, some charters must depart at odd hours when airport terminals are closed. Some charters transport passengers with medical conditions that require equipment that would not be permitted aboard the cabin of a non-2 charter passenger aircraft. Many charters depart from remote locations where screening checkpoints do not exist.

As a result of these comments, TSA will develop a final security program that accommodates the unique characteristics of charter operations and effectively addresses aviation security. Additional time is needed to adequately assess alternative programs and many charter operators will need time to establish appropriate internal screening procedures. The affected operators may comment on TSA's proposed security program from August 30 through September 30, 2002. TSA will review all comments received, revise the program as needed, and issue the final security program on or before October 30, 2002. The affected charter operators will have 30 days, until December 1, 2002, to implement the final security program.

Issued in Washington, DC, on August 21, 2002.
J.M. Loy,
Acting Under Secretary of Transportation for Security.

[FR Doc. 02-21977 Filed 8-27-02; 8:45 am]

BILLING CODE 4910-62-P